DEPARTMENT OF AGRICULTURE

Forest Service

Deschutes Provincial Advisory Committee (DPAC)

AGENCY: Forest Service.

ACTION: Notice of meeting.

SUMMARY: The Deschutes Provincial Advisory Committee will meet on August 18-20, 2004. The first two days will be a field trip to the Barlow Ranger District on the Mt. Hood National Forest to monitor and discuss implementation of watershed improvement projects. The last day will be a business meeting starting at 8 a.m. at the Barlow Ranger District Office, 780 NE Court in Dufor, Oregon 97021. Agenda items will include a Recreation Strategy update and/or Update on NWFP social monitoring module, Upper Deschutes RMP/Davis Fire Recovery update, B and B fire update, and an open public forum from 11:30 till noon. All Deschutes Provincial Advisory Committee Meetings are open to the public.

FOR FURTHER INFORMATION CONTACT: Chris Mickle, Province Liaison, Deschutes NF, Crescent Road, P.O. Box 208, Crescent, OR 97754, phone (541) 433-3216.

Dated: July 26, 2004.
Leslie A.C. Weldon,
Forest Supervisor.

[FR Doc. 04-17366 Filed 7-29-04; 8:45 am]

BILLING CODE 3410-11-M